DEPARTMENT OF THE INTERIOR

Bureau of Land Management

[OR-130-1020-XU; GP0-0185]

AGENCY: Bureau of Land Management, Spokane District, DOI.

NOTICE: Notice of Field Tour of the Eastern Washington Resource Advisory Council.

ACTION: Field Tour of the Eastern Washington Resource Advisory Council; April 20, 2000, in Spokane, Washington.

SUMMARY: The Eastern Washington Resource Advisory Council will take a field tour on April 20, 2000. The tour will start at 8:30 a.m., at the Spokane District Office of the Bureau of Land Management, 1103 N. Fancher Road, Spokane, Washington 99212-1275. The Council will visit the Rock Creek Acquisition in Adams and Whitman Counties, Washington. Topics to be addressed included wildlife-based recreation issues. The tour will conclude no later than 4:00 p.m. The tour is open to the public but no transportation will be provided.

FOR FURTHER INFORMATION CONTACT: Bureau of Land Management, Spokane District Office, 1103 N. Fancher Road, Spokane, Washington 99212; or call 509-536-1200.

Dated: April 6, 2000.
Gary J. Yeager,
Acting District Manager.

[FR Doc. 00-9049 Filed 4-11-00; 8:45 am]

BILLING CODE 4310-33-P